NATIONAL ARCHIVES AND RECORDS ADMINISTRATION

[NARA-2024-029]

Records Management; General Records Schedule (GRS); GRS Transmittal 35

AGENCY: National Archives and Records Administration (NARA).

ACTION: Notice of new General Records Schedule (GRS) Transmittal 35.

SUMMARY: NARA is issuing revisions to the General Records Schedule (GRS). The GRS provides mandatory disposition instructions for records common to several or all Federal agencies. Transmittal 35 includes only changes we have made to the GRS since we published Transmittal 34 in June 2023. All other GRS remain in effect.

DATES: This transmittal is effective June 14, 2024.

ADDRESSES: You can find all GRS schedules and FAQs at http://www.archives.gov/records-mgmt/grs.html (in Word, PDF, and CSV formats). You can download the complete current GRS, in PDF format, from the same location.

FOR FURTHER INFORMATION CONTACT: For more information about this notice or to obtain paper copies of the GRS, contact Eddie Germino, Regulatory and External Policy Program Manager, by email at regulation_comments@nara.gov or by telephone at 301.837.3758.

Writing and maintaining the GRS is the GRS Team's responsibility. This team is part of Records Management Operations in the Office of the Chief Records Officer, at NARA. You may contact NARA's GRS Team with general questions about the GRS at GRS_Team@nara.gov.

Your agency's records officer may contact the NARA appraiser with whom your agency normally works for support in carrying out this transmittal and the revised portions of the GRS. You may access a list of appraisal and scheduling contacts on our website at http://www.archives.gov/records-mgmt/appraisal/index.html.

SUPPLEMENTARY INFORMATION: GRS Transmittal 35 announces changes to the General Records Schedules (GRS) made since NARA published GRS Transmittal 34 in June 2023. The GRS provide mandatory disposition instructions for records common to several or all Federal agencies.

As with the past few transmittals, this transmittal publishes only those schedules that are new or have changed since they were last published in a transmittal. Other schedules not published in this transmittal remain current and authoritative. You can find all schedules (in Word and PDF formats), general GRS FAQs, and schedule specific FAQs at http://www.archives.gov/records-mgmt/grs.html.

1. What changes does this transmittal make to the GRS?

GRS Transmittal 35 publishes updates to six schedules. The primary purpose of these updates was to revise certain GRS disposition instructions so that they are machine-implementable. Machine-implementable disposition instructions can be converted into code that a computer application can implement. Machine-implementable instructions must have only one retention type for the computer to know what to do. A retention type identifies the point in time when retention starts, either at the point of creation (an age- or creation-based retention, such as “Destroy when 3 years old”) or when a certain event occurs (an event-based retention, such as “Destroy 3 years after final action”).

GRS | Item | Change
GRS 2.2, Employee Management Records | 030, Employee incentive award records 090, Records related to official passports—Application records | Revised the disposition instructions for machine-implementation.
GRS 2.3, Employee Relations Records | 040, Telework/alternate worksite program case files (now Telework/Alternate Worksite Agreements) | Updated the item title and description for clarity. Revised the disposition instructions for machine-implementation.
GRS 2.4, Employee Compensation and Benefits Records | 061, Payroll program administrative records—Payroll system reports providing fiscal information on agency payroll | Revised the disposition instructions for machine-implementation.
| 080, Wage Survey Files | Revised the item description for clarity. Revised the disposition instructions for machine-implementation.
GRS 2.6, Employee Training Records | 041, Senior Executive Service Candidate Development Program (SESCDP)—Case records on SESCDP participants | Revised the disposition instructions for machine-implementation.
GRS 5.4, Facility, Equipment, Vehicle, Property, and Supply Records | 020, Real property ownership records 030, Vehicle and equipment ownership records and operation manuals. | Revised the disposition instructions for machine-implementation.
GRS 5.6, Security Management Record | 050, Records of credit card abuse and postal irregularities (now Misuse or irregularities investigation records) | Changed the item title and description for clarity. Revised the disposition instructions for machine-implementation.
| 100, Accident and incident records 160, Canine (K-9) service records. | Revised the disposition instructions for machine-implementation.

3. How do agencies cite GRS items when communicating with NARA ?

Cite the “DAA” number in the “Disposition Authority” column of the GRS table when transferring records to Federal Records Centers or to NARA for accessioning, or when requesting GRS deviations on record schedules. For example, use “DAA-GRS-2017-0007-0008” rather than “GRS 2.2, item 070.” A GRS Disposition Authority Look-Up Table is available on our website at https://www.archives.gov/records-mgmt/grs.html.

4. Do agencies have to take any action to implement these GRS changes?

NARA regulations (36 CFR 1226.12(a)) require agencies to disseminate GRS changes within six months of receipt.

Per 36 CFR 1227.12(a)(1), if a new or revised GRS states that the provisions must be followed without exception, your agency must follow the disposition instructions of the GRS.

If your agency has an existing schedule item for records covered by a new or revised GRS, the GRS supersedes the agency-specific item. Per 36 CFR 1227.12(a)(3), if you wish to continue using your agency-specific item and the related GRS item is not identified as mandatory, you must notify NARA within 120 days of the date of this transmittal. Please send these notifications to GRS_Team@nara.gov.

If you do not have an already existing agency-specific item and want to apply a retention period that differs from that specified in the GRS, you must submit a records schedule to NARA for approval via the Electronic Records Archives.

5. How can an agency get copies of the new GRS?

You can download the complete current GRS, in PDF format, from NARA's website at http://www.archives.gov/records-mgmt/grs.html.

6. Whom should an agency contact for further information?

Please contact GRS_Team@nara.gov with any questions related to this transmittal.

Colleen J. Shogan,
Archivist of the United States.

[FR Doc. 2024-13176 Filed 6-13-24; 8:45 am]

BILLING CODE 7515-01-P